DEPARTMENT OF COMMERCE

Foreign-Trade Zones Board

[B-10-2017]

Foreign-Trade Zone (FTZ) 177—Evansville, Indiana; Notification of Proposed Production Activity; Toyota Motor Manufacturing Indiana, Inc. (Automotive Vehicles); Princeton, Indiana

The Ports of Indiana, grantee of FTZ 177, submitted a notification of proposed production activity to the FTZ Board on behalf of Toyota Motor Manufacturing Indiana, Inc. (Toyota), located in Princeton, Indiana. The notification conforming to the requirements of the regulations of the FTZ Board (15 CFR 400.22) was received on February 3, 2017.

Toyota already has authority to produce light-duty passenger vehicles (pickup trucks, sport utility vehicles, minivans) within FTZ Subzone 177B. The current request would add automotive vehicles to the scope of authority. Pursuant to 15 CFR 400.14(b), additional FTZ authority would be limited to the specific foreign-status materials/components and specific finished products described in the submitted notification (as described below) and subsequently authorized by the FTZ Board.

Production under FTZ procedures could exempt Toyota from customs duty payments on the foreign-status materials/components used in export production. On its domestic sales, Toyota would be able to choose the duty rates during customs entry procedures that apply to passenger vehicles and passenger hybrid vehicles (duty rate 2.5%) for the foreign-status materials/components noted below and in the existing scope of authority. Customs duties also could possibly be deferred or reduced on foreign-status production equipment.

The materials/components sourced from abroad include: Plastic labels; hole covers; seal tape; rubber belts; steel self tapping screws; steel pins; steel nuts; steel tension springs; steel rings; steel clamps; steel clips; steel plugs; aluminum nuts; zinc retainers; zinc nuts; fans; lead-acid batteries; nickel-metal hydride batteries; lithium-ion batteries; speakers; transmitters; receivers; radio switches; televisions; plug assemblies; sockets; switches; plastic terminal covers; remotes; controls; keys; insulated electric wires; and, cigarette lighters (duty rate ranges from 2.6% to 8.6%).

Public comment is invited from interested parties. Submissions shall be addressed to the Board's Executive Secretary at the address below. The closing period for their receipt is April 3, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Juanita H. Chen at Juanita.Chen@trade.gov or (202) 482-1378.

Dated: February 15, 2017.
Andrew McGilvray,
Executive Secretary.

[FR Doc. 2017-03419 Filed 2-21-17; 8:45 am]

BILLING CODE 3510-DS-P